DEPARTMENT OF HOMELAND SECURITY

[Docket No. DHS-2012-0037]

President's National Security Telecommunications Advisory Committee

AGENCY: National Protection and Programs Directorate, DHS.

ACTION: Committee Management; Notice of an Open Federal Advisory Committee Teleconference.

SUMMARY: The President's National Security Telecommunications Advisory Committee (NSTAC) will meet on Thursday, August 16, 2012, via a conference call. The meeting will be open to the public.

DATES: The NSTAC will meet Thursday, August 16, 2012, from 2:00 p.m. to 3:15 p.m. Please note that the meeting may close early if the committee has completed its business.

ADDRESSES: The meeting will be held via a conference call. For access to the conference bridge, contact Ms. Deirdre Gallop-Anderson by email at deirdre.gallop-anderson@dhs.gov by 5:00 p.m. on August 9, 2012.

To facilitate public participation, we are inviting public comment on the issues to be considered by the committee as listed in the “Supplementary Information” section below. Documents associated with the issues to be discussed during the conference will be available at www.ncs.gov/nstac for review by August 10, 2012. Written comments must be received by the NSTAC Designated Federal Officer no later than August 30, 2012 and may be submitted by any one of the following methods:

• Federal eRulemaking Portal: http://www.regulations.gov. Follow the instructions for submitting written comments.

• Email: NSTAC@hq.dhs.gov. Include the docket number in the subject line of the email message.

• Fax: (703) 235-4981.

• Mail: Alternate Designated Federal Officer, National Communications System, National Protection and Programs Directorate, Department of Homeland Security, 245 Murray Lane, Mail Stop 0615, Arlington, VA 20598-0615.

Instructions: All submissions received must include the words “Department of Homeland Security” and the docket number for this action. Comments received will be posted without alteration at www.regulations.gov, including any personal information provided.

Docket: For access to the docket, including all documents and comments received by the NSTAC, go to www.regulations.gov.

A public comment period will be held during the meeting on August 16, 2012, from 2:55 p.m. to 3:10 p.m. Speakers who wish to participate in the public comment period must register in advance no later than 5:00 p.m. on August 9, 2012, by emailing Deirdre Gallop-Anderson at deirdre.gallop-anderson@dhs.gov. Speakers are requested to limit their comments to three minutes and will speak in order of registration as time permits. Please note that the public comment period may end before the time indicated, following the last call for comments.

FOR FURTHER INFORMATION CONTACT: Allen F. Woodhouse, NSTAC Alternate Designated Federal Officer, Department of Homeland Security, telephone (703) 235-4900.

SUPPLEMENTARY INFORMATION: Notice of this meeting is given under the Federal Advisory Committee Act, 5 U.S.C. App. (Pub. L. 92-463). The NSTAC advises the President on matters related to national security and emergency preparedness telecommunications policy.

Agenda: The NSTAC members will receive an update on progress made to date by the Nationwide Public Safety Broadband Network (NPSBN) Research Subcommittee. The NPSBN Research Subcommittee is focusing on what National Security Emergency Preparedness (NS/EP) policy changes should be considered in order to: (1) Facilitate priority access that may be required across the diverse community of potential NPSBN users, particularly during NS/EP situations; (2) support NPSBN access, interoperability, security, reliability, and resiliency; and (3) help ensure the deployment and evolution of the NPSBN is in such a manner that accounts for each state and local jurisdiction's diverse capabilities, while helping to ensure scalability to the national level.

Next, NSTAC members will discuss the findings of their review of the Department of Homeland Security's (DHS) National Cybersecurity and Communications Integration Center (NCCIC). During the NSTAC meeting on May 15, 2012, the National Security Staff asked the NSTAC to conduct a review of the NCCIC to determine if it is operating in ways consistent with the NSTAC's proposed Joint Collaboration Center that the NSTAC envisioned in its 2009 Cybersecurity Collaboration Report.

The NSTAC, in coordination with senior leaders from the White House and DHS, will also address potential NSTAC taskings such as the National Security Staff's request for the NSTAC to examine how commercial off-the-shelf technologies and private sector best practices can be used to secure unclassified communications between and among Federal civilian departments and agencies.

Additionally, there will be a discussion regarding whether further study is warranted of the NSTAC's recommendation to develop a separate “out-of-band” data network supporting communications among carriers, Internet service providers, vendors, and additional critical infrastructure owners and operators during a severe cyber incident that renders the Internet unusable.

Dated: July 23, 2012.
Michael Echols,
Alternate Designated Federal Officer for the NSTAC.

[FR Doc. 2012-18536 Filed 7-27-12; 8:45 am]

BILLING CODE 9110-9P-P